NATIONAL SCIENCE FOUNDATION

National Science Board; Committee on Education and Human Resources

Date and Time: December 4, 2003, 12 noon-1 p.m., Open Session.

Place: The National Science Foundation, Stafford One Building, 4201 Wilson Boulevard, Room 220,Arlington, VA 22230.

Status: This meeting will be open to the public.

Matters To Be Considered:

Thursday December 4, 2003

Open Session 12 noon to 1 p.m.

Approval of the Board's response to Section 22 of the NSF Authorization Act, December, 2002.

FOR FURTHER INFORMATION CONTACT: Cathy Hines, Operations Officer, NSB, (703) 292-7000, http://www.nsf.gov/nsb.

Cathy Hines,
Operations Officer.

[FR Doc. 03-30328 Filed 12-2-03; 4:22 pm]

BILLING CODE 7555-01-P